DEPARTMENT OF TRANSPORTATION

Office of the Secretary

Fitness Determination of Multi-Aero, Inc. d/b/a Air Choice One

AGENCY: Office of Secretary, Department of Transportation.

ACTION: Notice of Order to Show Cause (Order 2002-9-14), Docket OST-02-12417.

SUMMARY: The Department of Transportation is directing all interested persons to show cause why it should not issue an order finding Multi-Aero, Inc. d/b/a Air Choice One fit, willing, and able to provide scheduled passenger operations as a commuter air carrier under 49 U.S.C. 41738.

Responses: Objections and answers to objections should be filed in Docket OST-02-12417 and addressed to the Department of Transportation Dockets, PL-401, 400 Seventh Street, SW., Washington, DC 20590, and should be served on all persons listed in Attachment A to the order. Persons wishing to file objections should do so no later than September 27, 2002.

FOR FURTHER INFORMATION CONTACT: Mr. James Lawyer, Air Carrier Fitness Division (X-56, Room 6401), U.S. Department of Transportation, 400 Seventh Street, SW., Washington, DC 20590, (202) 366-1064.

Dated: September 13, 2002.
Read C. Van De Water,
Assistant Secretary for Aviation and International Affairs.

[FR Doc. 02-23923 Filed 9-19-02; 8:45 am]

BILLING CODE 4910-62-P